DEPARTMENT OF ENERGY

10 CFR Part 430

[Docket Number: EE-2009-BT-STD-0020; EE-2009-BT-STD-0022]

RIN 1904-AB89; 1904-AC06

Energy Conservation Program: Test Procedures and Energy Conservation Standards for Residential Furnaces and Boilers

AGENCY: Office of Energy Efficiency and Renewable Energy, Department of Energy.

ACTION: Proposed rule; extension of public comment period.

SUMMARY: This document announces an extension of the time periods for submitting comments on the supplemental notice of proposed rulemaking (SNOPR) to amend the test procedures for furnaces and boilers, and the energy conservation standards notice of public meeting (NOPM) and availability of a rulemaking analysis plan (RAP) for furnaces. Both comment periods are extended to April 27, 2010.

DATES: The comment period for the proposed rules published on March 15, 2010 (75 FR 12144) and April 5, 2010 (75 FR 17075) is extended to April 27, 2010.

ADDRESSES: Any comments submitted must identify the “SNOPR on Test Procedures for Residential Furnaces and Boilers” or “NOPM for Energy Conservation Standards for Residential Furnaces” and provide the appropriate docket number EE-2009-BT-STD-0020 (SNOPR) or EE-2009-BT-STD-0022 (NOPM) and/or RIN number 1904-AB89 (SNOPR) or 1904-AC06 (NOPM). Comments may be submitted using any of the following methods:

• Federal eRulemaking Portal: http://www.regulations.gov. Follow the instructions for submitting comments.

• E-mail: RFB-2008-TP-0020@ee.doe.gov (SNOPR) or Res-Furnaces-2009-STD-0022@ee.doe.gov (NOPM). Include docket number EE-2009-BT-STD-0020 or EE-2009-BT-STD-0022 and/or RIN 1904-AB89 or 1904-AC06, as appropriate, in the subject line of the message. Submit electronic comments in WordPerfect, Microsoft Word, PDF, or ASCII file format and avoid the use of special characters or any form of encryption.

• Postal Mail: Ms. Brenda Edwards, U.S. Department of Energy, Building Technologies Program, Mailstop EE-2J, 1000 Independence Avenue, SW., Washington, DC 20585-0121. Telephone: (202) 586-2945. Please submit one signed original paper copy.

• Hand Delivery/Courier: Ms. Brenda Edwards, U.S. Department of Energy, Building Technologies Program, 950 L'Enfant Plaza, SW., 6th Floor, Washington, DC 20024. Please submit one signed original paper copy.

Docket: For access to the docket to read background documents or comments received, visit the U.S. Department of Energy, Resource Room of the Building Technologies Program, 950 L'Enfant Plaza, SW., 6th Floor, Washington, DC 20024, (202) 586-2945, between 9 a.m. and 4 p.m. Monday through Friday, except Federal holidays. Please call Ms. Brenda Edwards at the above telephone number for additional information regarding visiting the Resource Room.

FOR FURTHER INFORMATION CONTACT: Mr. Mohammed Khan, U.S. Department of Energy, Office of Energy Efficiency and Renewable Energy, Building Technologies Program, EE-2J, 1000 Independence Avenue, SW., Washington, DC 20585-0121. Telephone: (202) 586-7892. E-mail: Mohammed.Khan@ee.doe.gov.

Mr. Eric Stas, U.S. Department of Energy, Office of the General Counsel, GC-71, 1000 Independence Avenue, SW., Washington, DC 20585-0121. Telephone: (202) 586-9507. E-mail: Eric.Stas@hq.doe.gov.

SUPPLEMENTARY INFORMATION: On March 15, 2010, the U.S. Department of Energy (DOE) published a Federal Register notice announcing the availability of its RAP for energy conservation standards for residential furnaces, as well as a public meeting to discuss and receive comment on the RAP. 75 FR 12144. The NOPM provides for the submission of comments by April 14, 2010, and comments were also accepted at a public meeting held on March 31, 2010. On April 5, 2010, DOE published a SNOPR setting forth an integrated efficiency descriptor that incorporates standby mode and off mode energy consumption into the statutorily identified efficiency descriptor, Annual Fuel Utilization Efficiency (AFUE). 75 FR 17075. The SNOPR provides for the submission of comments by April 20, 2010. At the public meeting to discuss the RAP, several commenters asked for an extension of the comment period to consider these new amendments to the AFUE metric because DOE had previously stated in the NOPR that DOE was not proposing to integrate standby and off mode electrical energy use into AFUE, the energy descriptor specified in EPCA (42 U.S.C. 6291(22)). Commenters pointed out that the magnitude of the standby and off mode electrical consumption was small as compared to the fossil fuel energy consumption currently characterized by the AFUE metric. The commenters requested additional time to review the relevant statutory provisions within EPCA and to consider the impacts that integration of standby and off mode electric energy use into the AFUE metric may have on existing products, testing, energy efficiencies, and reporting. DOE has determined that an extension of the public comment period is appropriate based on the foregoing reasons and is hereby extending the comment period. DOE will consider any comments received by April 27, 2010, and deems any comments received between publications of the SNOPR and notice announcing availability of the RAP, respectively, and April 27, 2010 to be timely submitted.

Issued in Washington, DC, on April 8, 2010.
Cathy Zoi,
Assistant Secretary, Energy Efficiency and Renewable Energy.

[FR Doc. 2010-8508 Filed 4-13-10; 8:45 am]

BILLING CODE 6450-01-P